DEPARTMENT OF JUSTICE

Antitrust Division

Notice Pursuant to the National Cooperative Research and Production Act of 1993—National Armaments Consortium

Notice is hereby given that, on April 9, 2021, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, AI Strategy Corporation, Babylon, NY; Alpine Advanced Materials, Dallas, TX; Analytical Space, Inc., Cambridge, MA; Bangham Engineering Inc., Huntsville, AL; Boston Materials, Inc., Billerica, MA; Calspan Corporation, Buffalo, NY; Cambrian Works, Inc., Fairfax, VA; Concurrent Real-Time, Pompano Beach, FL; Consolidated Resource Imaging LLC (CRI), Grand Rapids, MI; Daniel Defense, Inc., Black Creek, GA; Dynasafe US LLC, Talladega, AL; FLIR Unmanned Ground Systems, Inc., Chelmsford, MA; Innoflight, LLC, San Diego, CA; Knight Technical Solutions, LLC, Huntsville, AL; Loukus Technologies, Inc., Calumet, MI; Lyn Aerospace, LLC, Rockledge, FL; Materion Brush, Inc., Elmore, OH; MetalTek International Wisconsin Investcast Division, Watertown, WI; Michael R. Limotta & Co., Inc., DBA Proximai.com, Solvang, CA; Microsoft Corporation, Redmond, WA; Netwerx, LLC, Colts Neck, NJ; Optimum Parts Company Inc., Agawam, MA; PECO INC, Clackamas, OR; Photon Flux, LLC, Huntsville, AL; R3 Strategic Support Group, Inc., Coronado, CA; Ravyn Technology Corporation, El Segundo, CA; RE2, Inc., Pittsburgh, PA; Redpoint Engineering Inc., Beavercreek, OH; Rhein Tech Laboratories, Inc., Herndon, VA; Stratolaunch, LLC, Mojave, CA; Telesat U.S. Services, LLC, Arlington, VA; Terma North America Warner, Robins, GA; Tomahawk Robotics, Melbourne, FL; Trident Solutions Group, LLC, Monmouth Beach, NJ; Voxel Innovations Inc., Raleigh, NC; VTMB, LLC, Clearwater, FL; Wescam USA, Inc., Santa Rosa, CA; and York Space Systems LLC, Denver, CO, have been added as parties to this venture.

Also, Exact Solution Scientific Consulting, LLC, Morristown, NJ; Kennley Corporation, North Chesterfield, VA; Lithium Battery Engineering LLC, Randolph, NJ; McConnell Jones Lanier & Murphy LLP d.b.a. MJLM Engineering & Technical Services, Huntsville, AL; Military Battery Systems, Inc. Denver, CO; Polaris Contract Manufacturing, Inc, Marion, MA; QinetiQ North America, Waltham, MA; Rite-Solutions, Inc. Pawcatuck, CT; Stark Aerospace, Inc., Columbus, MS; University of Delaware, Newark, DE; and W R Systems, Ltd. (WR), Fairfax, VA, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on January 12, 2021. A notice was published in the Federal Register pursuant to Section 6(b) of the Act on January 19, 2021 (86 FR 5251).

Suzanne Morris,
Chief, Premerger and Division Statistics, Antitrust Division.

[FR Doc. 2021-09901 Filed 5-10-21; 8:45 am]

BILLING CODE P